DEPARTMENT OF COMMERCE

International Trade Administration

[Application No. 02-1A003]

Export Trade Certificate of Review

ACTION: Notice of Application for Amendment of the Export Trade Certificate of Review for the Corn Refiners Association; Application No. 02-1A003.

SUMMARY: The Office of Trade and Economic Analysis (“OTEA”) of the International Trade Administration, Department of Commerce, has received an application for an Amendment of an Export Trade Certificate of Review (“Certificate”). This notice summarizes the proposed application and requests comments relevant to whether the amended Certificate should be issued.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Export Trading Company Affairs, International Trade Administration, U.S. Department of Commerce, Room 22027-F, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 02-1A003.”

A summary of the current application follows.

Summary of the Application

Applicant: Corn Refiners Association (CRA); 1701 Pennsylvania Ave. NW., Suite 950; Washington, DC 20006.

Contact: David E. Bond, White & Case LLP, (202) 729-2307.

Application No.: 02-1A003.

Date Deemed Submitted: March 26, 2015.

Summary: The Corn Refiners Association (“CRA”) seeks an amended Certificate of Review to remove a Certificate Member, Roquette America, Inc., which was originally a member of CRA but is no longer a member of CRA as of January 1, 2015. With the amended Certificate, CRA seeks to continue to engage in the Export Trade Activities and Methods of Operation described below in the following Export Trade and Export Markets:

Export Trade

Products: High fructose com syrup (“HFCS”) in the following two forms: 42 percent fructose and 55 percent fructose and enriched HFCS (greater than 55 percent fructose).

Export Markets

HFCS for which tariff-rate quota (TRQ) rights are allocated will be exported only to Mexico.

Export Trade Activities and Methods of Operations

Purpose

The CRA will manage the system as set forth below for allocating rights to ship under tariff-rate quotas (TRQs) permitting duty-free entry of U.S. HFCS into Mexico. The CRA shall permit any producer of HFCS in the United States to become a member of the association for purposes of receiving TRQ rights under this system and shall seek an amendment of this Certificate to make such a producer a Member under this Certificate.

TRQ Administrator

The CRA will contract with an independent third-party Administrator who will bear responsibility for administering the TRQ System, subject to general oversight and supervision by the Board of Directors of the CRA. The Administrator may not be otherwise related to the CRA or any Member or in any way engaged in the production, distribution or sale of HFCS.

TRQ System

The Administrator shall allocate TRQ rights based on the share each Member's U.S. HFCS production capacity represents of total U.S. HFCS production capacity. The Administrator may advise each Member individually of the quantity of TRQ rights allocated to that Member. In accordance with those allocations, the Administrator shall, upon the request of a Member, issue to the Member evidence of TRQ rights to ship a specified quantity of U.S. HFCS duty-free to Mexico up to the outstanding total of the Member's allocation. Evidence of TRQ rights issued by the Administrator shall be freely transferable. Transfers of TRQ rights are subject to the normal application of the antitrust laws.

Confidential Information

Each Member may provide to the Administrator information regarding its capacity to produce HFCS in the United States for the purpose of calculating the Member's allocation of TRQ rights. Any non-public, company-specific business information or data submitted by an applicant for membership, by a Member, or by any other person in connection with the TRQ System shall be marked “confidential” and submitted to the Administrator, who shall maintain its confidentiality. The Administrator shall not disclose such confidential information to any Member other than the submitter, or to any officers, agents, or employees of any Member other than the submitter, and shall not disclose such confidential information to any other person except to another neutral third party as necessary to make the determination for which the information was submitted, to allocate TRQ quantities, or in connection with reports to the U.S. Department of Commerce as required by the Certificate or the arbitration of a dispute.

Cooperation With the U.S. and Mexican Governments

The CRA will provide to the U.S. Government and the Government of Mexico whatever information and consultations may be useful in order to facilitate cooperation between the governments concerning the implementation and operation of the TRQ System. Furthermore, directly or through the U.S. Government, the CRA will endeavor to accommodate any information requests from the Government of Mexico (while protecting confidential information entrusted to the Administrator), and will consult with the Government of Mexico as appropriate. All such information and consultations shall be subject to the provision on Confidential Information (above) and the Terms and Conditions described in the Certificate.

The members of CRA that will be Members under the Certificate within the meaning of 15 CFR 325.2(1) after the amendment:

1. Archer Daniels Midland Company

2. Cargill, Incorporated

3. Ingredion, Incorporated (Ingredion acquired Penford Corporation, which was a Member. Ingredion was formerly known as Corn Products International, Inc., which was a Member and which acquired National Starch and Chemical Company, which was a Member.)

4. Tate & Lyle Ingredients Americas, Inc.

Definition

Neutral third-party, as used in this Certificate of Review, means a party not related to CRA or any Member and who is not engaged in the production, distribution or sale of HFCS.

Dated: April 6, 2015.
Joseph Flynn,
Director, Office of Trade and Economic Analysis, International Trade Administration.

[FR Doc. 2015-08240 Filed 4-9-15; 8:45 am]

BILLING CODE 3510-DR-P